TENNESSEE VALLEY AUTHORITY

Environmental Impact Statement for the Disposal of Coal Combustion Residuals From the Bull Run Fossil Plant

AGENCY: Tennessee Valley Authority.

ACTION: Notice of Intent.

SUMMARY: This notice of intent is provided in accordance with the Council on Environmental Quality's regulations (40 CFR parts 1500-1508) and Tennessee Valley Authority's (TVA) procedures implementing the National Environmental Policy Act (NEPA). TVA intends to prepare an environmental impact statement (EIS) to address the continued disposal of Coal Combustion Residuals (CCR) from the Bull Run Fossil Plant (BRF).

DATES: To ensure consideration, comments on the scope of the EIS must be postmarked or emailed no later than July 6, 2015.

ADDRESSES: Written comments on the scope of the Disposal of Coal Combustion Residuals from Bull Run Fossil Plant EIS should be sent to Anita E. Masters, Project Environmental Planning, NEPA Project Manager, Tennessee Valley Authority, 1101 Market Street, Mail Stop BR 4A, Chattanooga, Tennessee 37402. Comments may also be submitted on the project Web site at http://www.tva.com/environment/reports/index.htm or by email at BRF_CCR_Disposal@tva.gov.

FOR FURTHER INFORMATION CONTACT: Other project related questions should be sent to Myra Ireland, Senior Strategic Communications Partner, Communications, Tennessee Valley Authority, 1101 Market Street, Mail Stop LP 5B, Chattanooga, Tennessee 37402 or by email at mhireland@tva.gov.

SUPPLEMENTARY INFORMATION:

TVA Power System

TVA operates the nation's largest public power system, producing 4 percent of all the electricity in the nation. TVA provides electricity to most of Tennessee and parts of Virginia, North Carolina, Georgia, Alabama, Mississippi, and Kentucky. It serves about 9 million people in this seven-state region through 155 power distributors and 57 directly served large industries and federal facilities. The TVA Act requires the TVA power system to be self-supporting and operated on a nonprofit basis, and directs TVA to sell power at rates as low as feasible.

TVA is in the process of converting its handling of CCR from wet systems to dry systems across its coal-fired system. In September 2012, TVA decided to construct a mechanical dewatering facility at BRF. This facility is currently under construction and will allow TVA to manage bottom ash and gypsum using a dry stack basis. Fly ash generated at BRF is already being handled and stored on a dry basis. TVA needs to plan for the future management of material since existing storage capacity for dry stack CCRs at BRF is limited.

Purpose and Need

TVA proposes to expand its capacity for managing CCRs from BRF by constructing a new dry storage area on TVA property adjacent to BRF. BRF has state-of-the-art air pollution controls and is one of TVA's coal plants that is planned to continue to operate in the future. Construction of a new CCR dry storage area will provide additional CCR management capacity enabling TVA to continue operations at BRF. This proposal would be consistent with TVA's voluntary commitment to convert wet CCR management systems to dry systems. This also would help TVA comply with the U.S. Environmental Protection Agency's (EPA) recently issued Coal Combustion Residuals Rule.

Alternatives

This EIS will address alternatives that have reasonable prospects of providing a solution to the disposal of CCRs generated from BRF. TVA has determined that BRF has limited capacity for additional CCR storage onsite and will need to consider additional options for storage. TVA has further determined that either the construction of a new CCR storage area or hauling CCR to an existing permitted landfill are the most reasonable alternatives. Alternative site locations for a CCR storage suitable for meeting TVA's needs and objectives will also be considered. However, based on preliminary analysis there are unlikely to be any other alternatives that have fewer impacts than the proposed location adjacent to BRF. Additionally, the EIS will consider a “No Action” Alternative under which TVA would not seek additional storage capacity for CCR from BRF.

No decision has been made about CCR disposal beyond the current available onsite capacity. TVA is preparing this EIS to inform decision makers, other agencies, and the public about the potential for environmental impacts associated with a decision to dispose of CCR generated from BRF. The draft EIS will be made available for public comment. In making its final decision, TVA will consider the analyses in this EIS and substantive comments that it receives. A final decision on proceeding with construction and operation will depend on a number of factors, including the results of the EIS, engineering and risk evaluations, and financial considerations.

Preliminary Identification of Environmental Issues

This EIS will analyze potential impacts on the quality of the human and natural environment resulting from disposal of CCRs through the construction and operation of a new CCR storage area, utilizing existing permitted sites, and other reasonable alternatives. The impact analyses will include, but are not necessarily limited to:

• Water resources (surface water, groundwater quality, and use);

• vegetation;

• wildlife;

• aquatic ecology;

• endangered and threatened species;

• floodplains and wetlands;

• geology;

• land use;

• transportation;

• recreational and managed areas;

• visual resources;

• archaeological and historic resources;

• solid and hazardous waste;

• public health and safety;

• noise;

• air quality and climate change; and

• socioeconomics and environmental justice.

These and other important issues identified during the scoping process will be addressed as appropriate in the EIS.

Public Participation

This EIS is being prepared to provide the public an opportunity to comment on TVA's assessment of the potential environmental impacts of constructing and operating a new CCR storage area or utilizing an existing permitted site for the disposal of CCR from BRF. Applicable regulations require an early and open process for deciding what should be discussed in an EIS. Known as “scoping,” this process involves requesting and using comments from the public, interested agencies, and recognized Native American tribes to help identify the issues and alternatives that should be addressed in the EIS, as well as the temporal and geographic coverage of the analyses.

The public is invited to submit comments on the scope of this EIS no later than the date given under the DATES section of this notice. Any comments received, including names and addresses, will become part of the administrative record and will be available for public inspection.

After consideration of the comments received during this scoping period, TVA will develop and distribute a document that will summarize public and agency comments that were received and identify the issues and alternatives to be addressed in the EIS and identify the schedule for completing the EIS process. Following analysis of the issues, TVA will prepare a draft EIS for public review and comment. Notice of availability of the draft EIS will be published by the U.S. Environmental Protection Agency in the Federal Register. The public, governmental agencies, and recognized Native American tribes will be invited to submit comments on the draft EIS. TVA expects to release a draft EIS in Summer 2016 and the final EIS is expected to be issued in 2017.

Wilbourne (Skip) C. Markham,
Director.

[FR Doc. 2015-12305 Filed 5-20-15; 8:45 am]

BILLING CODE 8120-08-P